DEPARTMENT OF THE INTERIOR

Fish and Wildlife Service

Notice of Availability of Draft Environmental Impact Statement for the Establishment of the Little Darby National Wildlife Refuge in Madison and Union Counties, West Central Ohio

AGENCY: Fish and Wildlife Service, Interior.

ACTION: Notice of availability for public comment.

SUMMARY: The U.S. Fish and Wildlife Service (Service) has prepared a Draft Environmental Impact Statement (DEIS) which is available for public review. The DEIS analyzes the potential environmental impacts that may result if a national wildlife refuge is established in the Little Darby watershed. The analysis provided in the DEIS is intended to accomplish the following: inform the public of the proposed action and alternatives; address public comment received during the scoping period; disclose the direct, indirect, and cumulative environmental effects of the proposed actions and each of the alternatives; and indicate any irreversible commitment of resources that would result from implementation of the proposed action. The Service invites the public to comment on the DEIS. All comments received from individuals become part of the official public record. Requests for such comments will be handled in accordance with the Freedom of Information Act and the Council on Environmental Quality's National Environmental Policy Act regulations [40 CFR 1506.6(f)]. Our practice is to make comments available for public review during regular business hours. Individual respondents may request that we withhold their home address from the record, which we will honor to the extent allowable by law. If a respondent wishes us to withhold his/her name and/or address, this must be stated prominently at the beginning of the comment.

The DEIS evaluates the establishment of the Little Darby National Wildlife Refuge as a means of working with individuals, groups, and governmental entities to permanently preserve and restore a significant segment of the Little Darby Creek subwatershed, its aquatic resources, threatened and endangered species, migratory birds and the historic grassland, wetland and oak savanna habitats that they depend upon. Five alternatives, including a No Action alternative are being considered. The four action alternatives are aimed at permanently protecting and enhancing a major corridor segment of the Little Darby Creek, and associated grassland, wetland and riparian habitats.

The Service's preferred alternative (Alternative 2) is to permanently protect, enhance and restore riparian areas, grasslands and wetlands that were historically present within the framework of a Voluntary Purchase Area and to protect a larger part of the subwatershed identified as a Watershed Conservation Area through the use of voluntary non-development easements which will perpetuate the current land use and encourage conservation land use practices. The use of partnerships, incentives, education, and cooperative agreements will be used and considered in addition to the acquisition of easements and fee title interests. Any conservation easements, or acquisition of full title would be done by the Service and Service Partners which may include state agencies and private organizations. Service acquisition of easements and fee interest in lands would be on a voluntary basis from willing sellers.

DATES: Written comments on the DEIS must be received on or before September 28, 2000. A Final Environmental Impact Statement will then be prepared and provided to the public for review.

ADDRESSES: Individuals wishing copies of this DEIS for review should contact: William Hegge, Darby Creek Watershed Project Manager, U.S. Fish and Wildlife Service, 6950-H Americana Parkway, Reynoldsburg, Ohio 43068 or Thomas Larson, Chief of Ascertainment and Planning, National Wildlife Refuge System, BHW Federal Building, 1 Federal Drive, Fort Snelling, Minnesota 55111. The DEIS is also available on the Internet at http://www.fws.gov/r3pao/planning/top.htm and at the Ohio libraries listed below:

Hilliard Branch, Columbus Metropolitan Libraries

Dublin Branch, Columbus Metropolitan Libraries

Main Branch, Columbus Metropolitan Libraries

Northwest Branch, Columbus Metropolitan Libraries

London Branch, Madison County Libraries

Plain City Branch, Madison County Libraries

West Jefferson Branch, Madison County Libraries

Marysville Branch, Union County Libraries

Richwood Branch, Union County Libraries

Urbana Branch, Champaign County Libraries

St. Paris Branch, Champaign County Libraries

Mechanicsburg Branch, Champaign County Libraries

Springfield Branch, Clark County Libraries

Hurt/Battelle Memorial Library, West Jefferson

FOR FURTHER INFORMATION CONTACT: William Hegge or Thomas Larson at the addresses listed above or by telephone at 614/ 469-6923 x17 and 800/247-1247 respectively.

Public Hearing

A public hearing will be held in Ohio during the comment period to solicit oral comments from the public. The date and location of this hearing will be announced through the local news media.

SUPPLEMENTARY INFORMATION: On June 9, 2000, a notice was published in the Federal Register (65 F.R. 36711) announcing that the Service intended to prepare an Environmental Impact Statement addressing the possible Federal action of establishing a refuge on the Little Darby watershed in Madison and Union counties, Ohio, and inviting comments on the scope of the Environmental Impact Statement. Comments were received and considered and are reflected in the DEIS made available for comment through this notice.

America's native grasslands are a vanishing ecosystem, and mounting evidence indicates that many species dependent upon grasslands are also declining. Few other ecosystem types have experienced as great a degree of loss and alteration. The population trend in Ohio for grassland nongame migratory birds exhibits declines much greater than the declines reported nationally. Ohio has also lost more than 90 percent of its presettlement wetlands through conversion. An estimated 50 percent of Ohio's waterways are impaired by agricultural runoff and hydro-modification. This project could preserve and restore grassland and wetland habitats and play a major role in long term preservation of the diverse Little Darby Creek aquatic system.

Through an integrated and novel ecosystem approach, the Service, with its partners, proposes to protect and restore fish and wildlife habitats, overall biodiversity and compatible land uses in the project area through holistic management strategies using a wide variety of tools and techniques. The Service proposes to participate in public and private partnerships at many levels, complementing and expanding upon local projects such as those of the Soil and Water Conservation Districts, Ohio Department of Natural Resources, U.S. Department of Agriculture, Ohio Department of Agriculture, The Nature Conservancy, and others.

This notice is provided pursuant to Fish and Wildlife Service regulations for implementing the National Environmental Policy Act of 1969 (40 CFR 1506.6).

Dated: July 21, 2000.
Marvin E. Moriarty,
Acting Regional Director.

[FR Doc. 00-18975 Filed 7-26-00; 8:45 am]

BILLING CODE 4310-55-P